FEDERAL COMMUNICATIONS COMMISSION

47 CFR Part 73

[DA 05-1999; MB Docket No. 05-135, RM-11215]

Radio Broadcasting Services; Jackson and Madison, MS

AGENCY: Federal Communications Commission.

ACTION: Final rule.

SUMMARY: At the request of New South Communications, Inc., licensee of Station WUSJ(FM), Jackson, Mississippi, the Audio Division reallots Channel 242C0 from Jackson to Madison, Mississippi as the community's first local transmission service, and modifies the license for Station WUSJ (FM) to reflect the new community. See 70 FR 19396, April 13, 2005. Channel 242C0 is reallotted at Madison at petitioner's site 24.0 kilometers (14.9 miles) southwest of the community at coordinates 32-11-29 NL and 90-24-22 WL.

DATES: Effective August 29, 2005.

ADDRESSES: Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 05-135, adopted July 13, 2005 and released July 15, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

47 CFR Part 73 is amended as follows:

PART 73—RADIO BROADCAST SERVICES

1. The authority citation for Part 73 continues to read as follows:

Authority: 47 U.S.C. 154, 303, 334 and 336.

§ 73.202 [Amended]

2. Section 73.202(b), the Table of FM Allotments under Mississippi, is amended by removing Channel 242C0 at Jackson and by adding Madison, Channel 242C0.

Federal Communications Commission.
John A. Karousos,
Assistant Chief, Audio Division, Media Bureau.

[FR Doc. 05-14954 Filed 8-2-05; 8:45 am]

BILLING CODE 6712-01-P